DEPARTMENT OF THE INTERIOR

Bureau of Land Management

[LLNVSO0000.L16100000.DO0000.LXSS100F0000, 241A; 11-08807; MO#4500015402; TAS: 14X1109]

Notice of Intent to Prepare a Resource Management Plan for the Battle Mountain District and Associated Environmental Impact Statement, Nevada

AGENCY: Bureau of Land Management, Interior.

ACTION: Notice of Intent.

SUMMARY: In compliance with the National Environmental Policy Act of 1969, as amended, and the Federal Land Policy and Management Act of 1976, as amended, the Bureau of Land Management (BLM) Battle Mountain District, Battle Mountain, Nevada, intends to prepare a Resource Management Plan (RMP) and associated Environmental Impact Statement (EIS) for the Battle Mountain District, and by this notice is announcing the beginning of the scoping process to solicit public comments and identify issues. The new Battle Mountain RMP will cover both the Mount Lewis Field Office and the Tonopah Field Office and will replace the existing Shoshone-Eureka and Tonopah RMPs.

DATES: This notice initiates the public scoping process for the Battle Mountain RMP and associated EIS. Comments on issues may be submitted in writing until February 11, 2011. The date(s) and location(s) of scoping meetings will be announced at least 15 days in advance through local media, newspapers, and the BLM Web site at: http://www.blm.gov/nv/st/en/fo/battle_mountain_field.html. In order to be included in the Draft EIS, all comments must be received prior to the close of the 60-day scoping period or 30 days after the last public meeting, whichever is later. We will provide additional opportunities for public participation upon publication of the Draft EIS.

ADDRESSES: You may submit comments on issues and planning criteria related to the Battle Mountain RMP and EIS by using any of the following methods:

• Web site: http://www.blm.gov/nv/st/en/fo/battle_mountain_field.html.

• E-mail: BattleMountain RMP@blm.gov.

• Fax: 775-635-4034.

• Mail: Bureau of Land Management, 50 Bastian Road, Battle Mountain, NV 89820.

Documents pertinent to this proposal may be examined at the Battle Mountain District Office.

FOR FURTHER INFORMATION CONTACT: For further information and/or to have your name added to the mailing list, call Christopher Worthington, planning and environmental coordinator, 775-635-4144, or e-mail Christopher_Worthington@blm.gov.

SUPPLEMENTARY INFORMATION: This document provides notice that the BLM District Office, Battle Mountain, Nevada intends to prepare a RMP with an associated EIS for the Battle Mountain District, announces the beginning of the scoping process, and seeks public input on issues and planning criteria. The planning area is located in portions of Lander, Eureka, Nye, and Esmeralda counties, Nevada and encompasses approximately 10.5 million acres of public land. The purpose of the public scoping process is to determine relevant issues that will influence the scope of the environmental analysis, including alternatives, and guide the planning process. Preliminary issues for the planning area have been identified by the BLM, Federal, State, and local agencies, and other stakeholders. The issues include: managing vegetative and water resources, including identifying terrestrial and aquatic wildlife and fish priority habitats; managing noxious and invasive species; managing renewable energy development for geothermal, wind, and solar power, including stipulations to protect sensitive resources; identifying and evaluating areas of critical environmental concern; identifying lands with wilderness characteristics with an updated inventory; determining eligibility for wild and scenic rivers; managing National Historic Trails; identifying off-highway vehicle designations and travel management; identifying special recreation management areas to meet increasing recreation demands; managing and protecting visual resources, cultural, historical, and paleontological resources, as well as Native American religious and traditional values; and making land tenure adjustments to meet community growth needs and sustainable development.

Preliminary planning criteria include: (1) The planning area is defined as the area covered by the existing Shoshone-Eureka and Tonopah RMPs. The plan will make resource use determinations for public lands within the defined planning area boundary. (2) The planning effort will rely on available inventories of the lands and resources as well as data gathered during the planning process. (3) The planning will address requirements for sage-grouse habitat and conservation as outlined in the National Sage-Grouse Habitat Conservation Strategy, and the most current BLM guidance and instruction memoranda will be followed. (4) The planning process will use Geographic Information Systems and corporate geospatial data to the extent practicable and Federal Geographic Data Committee standards and other applicable BLM data standards will be followed. (5) The plan and associated EIS will be developed through the BLM's ePlanning system to the extent consistent with the current functionality of the system and schedule considerations. (6) The plan will be consistent to the maximum extent possible with the plans and management programs of local government, consistent with State and Federal laws and guiding regulations and coordinated with other Federal agencies where appropriate. (7) The planning process will use and observe principles of multiple use and sustained yield. (8) The planning process will involve consultation with Native American Tribal governments. (9) The plan will recognize valid existing rights and incorporate valid existing management from the Shoshone-Eureka and Tonopah RMPs as appropriate. (10) Opportunities for public involvement will be provided throughout the planning process. (11) A review of eligibility, findings and tentative classification of waterways as eligible for inclusion in the National Wild and Scenic River System will follow the criteria contained in 43 CFR 8351. (12) Environmental protection and energy production are each desirable and necessary objectives and will not be considered mutually exclusive priorities.

You may submit comments on issues and planning criteria to the BLM using one of the methods listed in the ADDRESSES section above. Before including an address, phone number, e-mail address, or other personal identifying information in your comment, you should be aware that the entire comment—including personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate the identified issues to be addressed in the plan and will place them into one of three categories:

1. Issues to be resolved in the plan;

2. Issues to be resolved through policy or administrative action; or

3. Issues beyond the scope of this plan.

The BLM will provide an explanation in the Draft RMP/Draft EIS as to why an issue is placed in category two or three. The public is also encouraged to help identify any management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: wildlife and fisheries, threatened and endangered species, special status species, vegetation, invasive and noxious weeds, renewable energy, lands and realty, minerals management, outdoor recreation, off-highway vehicle and transportation, air resources, visual resources, cultural resources and Native American concerns, paleontology, hydrology, public safety, law enforcement, fire ecology and management, rangeland management, sociology and economics, and Geographic Information Systems.

Authority: 40 CFR 1501.7, 43 CFR 1610.2.

Ron Wenker,
Nevada State Director.

[FR Doc. 2010-31207 Filed 12-10-10; 8:45 am]

BILLING CODE 4310-HC-P